DEPARTMENT OF ENERGY

Federal Energy Regulatory Commission

Combined Notice of Filings No. 2

October 19, 2009.

Take notice that the Commission has received the following Natural Gas Pipeline Rate and Refund Report filings:

Docket Numbers: RP09-704-002.

Applicants: Destin Pipeline Company, L.L.C.

Description: Destin Pipeline Company, LLC submits Second Sub Eighth Revised No 136 to its FERC Gas Tariff, Original Volume No. 1.

Filed Date: 10/09/2009.

Accession Number: 20091013-0036.

Comment Date: 5 p.m. Eastern Time on Friday, October 23, 2009.

Docket Numbers: RP09-855-002.

Applicants: Natural Gas Pipeline Company of America LLC.

Description: Natural Gas Pipeline Company of America LLC submits First Revised Sheet No 465 et al. to its FERC Gas Tariff, Seventh Revised Volume No. 1.

Filed Date: 10/09/2009.

Accession Number: 20091013-0037.

Comment Date: 5 p.m. Eastern Time on Friday, October 23, 2009.

Docket Numbers: RP09-117-001.

Applicants: El Paso Natural Gas Company.

Description: El Paso Natural Gas Company submits Second Revised Volume 1A et al. to be effective 10/1/09.

Filed Date: 10/15/2009.

Accession Number: 20091016-0110.

Comment Date: 5 p.m. Eastern Time on Tuesday, October 27, 2009.

Docket Numbers: RP09-1019-001.

Applicants: Quest Pipelines (KPC).

Description: Quest Pipelines submits First Revised Sheet No 185 et al. to its FERC Gas Tariff, Second Revised Volume No 1.

Filed Date: 10/09/2009.

Accession Number: 20091013-0035.

Comment Date: 5 p.m. Eastern Time on Friday, October 23, 2009.

Docket Numbers: RP09-1089-001.

Applicants: Northwest Pipeline GP.

Description: Northwest Pipeline GP submits Sub. Fifth Revised Sheet 399 et al. of its FERC Gas Tariff, Fourth Revised Volume 1.

Filed Date: 10/07/2009.

Accession Number: 20091008-0240.

Comment Date: 5 p.m. Eastern Time on Friday, October 23, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-26616 Filed 11-4-09; 8:45 am]

BILLING CODE 6717-01-P